Title 3—

The President

Proclamation 7694 of July 28, 2003

Death of Bob Hope

By the President of the United States of America

A Proclamation

Today, America mourns the loss of one of its great treasures. A gifted comedian who entertained audiences for decades with his unique talents, Bob Hope brought joy and laughter to our Nation. By tirelessly entertaining America's troops, he demonstrated his extraordinary love of country and devotion to the men and women who have served in our military.

As a mark of respect for the memory of Bob Hope, I hereby order, by the authority vested in me as President of the United States by the Constitution and the laws of the United States of America, that on the day of his interment, the flag of the United States shall be flown at half-staff at the White House and upon all public buildings and grounds, at all military posts and naval stations, and on all naval vessels of the Federal Government in the District of Columbia and throughout the United States and its Territories and possessions until sunset on such day. I also direct that the flag shall be flown at half-staff for the same period at all United States embassies, legations, consular offices, and other facilities abroad, including all military facilities and naval vessels and stations.

IN WITNESS WHEREOF, I have hereunto set my hand this twenty-eighth day of July, in the year of our Lord two thousand three, and of the Independence of the United States of America the two hundred and twenty-eighth.

B

[FR Doc. 03-19674

Filed 7-30-03; 9:18 am]

Billing code 3195-01-P